DEPARTMENT OF ENERGY

Federal Energy Regulatory Commission

Combined Notice of Filings # 1

April 26, 2010.

Take notice that the Commission received the following electric rate filings:

Docket Numbers: ER98-411-017.

Applicants: Wolverine Power Supply Cooperative, Inc.

Description: Notification of Change in Status of Wolverine Power Supply Cooperative, Inc.

Filed Date: 04/21/2010.

Accession Number: 20100421-5149.

Comment Date: 5 p.m. Eastern Time on Wednesday, May 12, 2010.

Docket Numbers: ER10-1045-001.

Applicants: PJM Interconnection, L.L.C.

Description: PJM Interconnection, LLC submits a substitute Interim ISA to supersede the Original Meadow Lake Interim ISA.

Filed Date: 04/23/2010.

Accession Number: 20100423-0214.

Comment Date: 5 p.m. Eastern Time on Friday, May 14, 2010.

Docket Numbers: ER10-1082-000.

Applicants: MidAmerican Energy Company.

Description: MidAmerican Energy Company submits Engineering and Procurement Agreement.

Filed Date: 04/23/2010.

Accession Number: 20100423-0213.

Comment Date: 5 p.m. Eastern Time on Friday, May 14, 2010.

Docket Numbers: ER10-1083-000.

Applicants: ISO New England Inc.

Description: ISO New England Inc et al submits an executed non-confirming Standard Small Generator Interconnection Agreement etc.

Filed Date: 04/23/2010.

Accession Number: 20100423-0212.

Comment Date: 5 p.m. Eastern Time on Friday, May 14, 2010.

Docket Numbers: ER10-1084-000.

Applicants: PJM Interconnection, L.L.C.

Description: PJM Interconnection LLC submits an executed Transmission Agreement among ATCLLC etc.

Filed Date: 04/23/2010.

Accession Number: 20100423-0220.

Comment Date: 5 p.m. Eastern Time on Friday, May 14, 2010.

Docket Numbers: ER10-1085-000.

Applicants: Midwest Independent Transmission System Operator, Inc.

Description: Midwest Independent System Operator, Inc submits an Amended and restated Facilities Construction agreement etc.

Filed Date: 04/23/2010.

Accession Number: 20100423-0211.

Comment Date: 5 p.m. Eastern Time on Friday, May 14, 2010.

Docket Numbers: ER10-1086-000.

Applicants: Midwest Independent Transmission System Operator, Inc.

Description: Midwest Independent System Operator, Inc. submits an executed Transmission Interconnection agreement etc.

Filed Date: 04/23/2010.

Accession Number: 20100423-0222.

Comment Date: 5 p.m. Eastern Time on Friday, May 14, 2010.

Docket Numbers: ER10-1087-000.

Applicants: Entergy Services, Inc.

Description: City of North Rock et al submits the mutual-executed Second Revised Dynamic Transfer Operating Agreement.

Filed Date: 04/23/2010.

Accession Number: 20100423-0215.

Comment Date: 5 p.m. Eastern Time on Friday, May 14, 2010.

Docket Numbers: ER10-1088-000.

Applicants: ISO New England Inc., New England Power Pool.

Description: ISO New England Inc et al submits transmittal letter and revised tariff sheets that revise, remove, and add definitions of the ISO New England Transmission, Markets and Services Tariff etc.

Filed Date: 04/23/2010.

Accession Number: 20100426-0203.

Comment Date: 5 p.m. Eastern Time on Monday, May 10, 2010.

Docket Numbers: ER10-1089-000.

Applicants: EquiPower Resources Management, LLC.

Description: EquilPower Resources Management, LLC submits application requesting that FERC accept their FERC Electric Tariff, Original Volume 1 etc.

Filed Date: 04/23/2010.

Accession Number: 20100426-0202.

Comment Date: 5 p.m. Eastern Time on Friday, May 14, 2010.

Docket Numbers: ER10-1090-000.

Applicants: Commercial Energy of Montana Inc.

Description: Commercial Energy of Montana Inc. submits tariff filing per 35.12: Initial Market Based Rate to be effective 5/3/2010.

Filed Date: 04/26/2010.

Accession Number: 20100426-5049.

Comment Date: 5 p.m. Eastern Time on Monday, May 17, 2010.

Docket Numbers: ER10-1093-000.

Applicants: Delaware City Refining Company LLC.

Description: Delaware City Refining Company LLC submits tariff filing per 35.12: Initial Market Based Rates to be effective 6/1/2010.

Filed Date: 04/26/2010.

Accession Number: 20100426-5085.

Comment Date: 5 p.m. Eastern Time on Monday, May 17, 2010.

Take notice that the Commission received the following open access transmission tariff filings:

Docket Numbers: OA08-42-004.

Applicants: American Transmission Company LLC.

Description: American Transmission Company, LLC et al submits compliance filing with the changes directed by the Commission to the transmission planning principles in Attachment FF-ATCLLC etc.

Filed Date: 04/23/2010.

Accession Number: 20100426-0204.

Comment Date: 5 p.m. Eastern Time on Friday, May 14, 2010.

Docket Numbers: OA08-53-003.

Applicants: Midwest Independent Transmission System.

Description: Midwest Independent Transmission System Operator, Inc submits compliance filing revising its Open Access Transmission, Energy and Operating Reserve Markets Tariff.

Filed Date: 04/23/2010.

Accession Number: 20100426-0205.

Comment Date: 5 p.m. Eastern Time on Friday, May 14, 2010.

Take notice that the Commission received the following electric reliability filings:

Docket Numbers: RD10-13-000.

Applicants: North American Electric Reliability Corporation.

Description: Petition of the North American Electric Reliability Corporation for Approval of an Interpretation to Reliability Standard CIP-006-2, Requirement R1.1.

Filed Date: 04/20/2010.

Accession Number: 20100420-5159.

Comment Date: 5 p.m. Eastern Time on Wednesday, May 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-10348 Filed 5-3-10; 8:45 am]

BILLING CODE 6717-01-P